NATIONAL SCIENCE FOUNDATION

Advisory Committee for Geosciences; Committee of Visitors; Notice of Meeting

In accordance with the Federal Advisory Committee Act (Pub. L. 92-463, as amended), the National Science Foundation announces the following meeting:

Name: Advisory Committee for Geosciences; Committee of Visitors for the Instrumentation and Facilities Program in the Division of Earth Sciences (1755).

Date/Time: September 12-14, 2001; 8:30 am-5:00 pm each day.

Place: Room 380, NSF, 4201 Wilson Boulevard, Arlington, VA.

Type of Meeting: Part-Open.

Contact Person: Dr. David Lambert, Program Director, Instrumentation and Facilities Program, Division of Earth Sciences, National Science Foundation, 4201 Wilson Boulevard, Arlington, VA 22230. Telephone: (703) 292-8558.

Purpose of Meeting: To carry out Committee of Visitors (COV) review, including program evaluation, GPRA assessments, and access to privileged materials.

Agenda

Closed: September 12 from 11:00-5:00—To review the merit review processes covering funding decisions made during the immediately preceding three fiscal years of the Instrumentation and Facilities Program

Open: September 12 from 8:30-11:00—Introductions, charge and general discussion of selection process. September 13 from 8:30-5:00 and September 14 from 8:30-5:00—To assess the results of NSF program investments in the Instrumentation and Facilities Program. This shall involve a discussion and review of results focused on NSF and grantee outputs and related outcomes achieved or realized during the preceding three fiscal years. These results may be based on NSF grants or other investments made in earlier years.

Reason for closing: During the closed session, the Committee will be reviewing proposal actions that will include privileged intellectual property and personal information that could harm individuals if they are disclosed. If discussions were open to the public, these matters that are exempt under 5 U.S.C. 552b(c)(4) and (6) of the Government in the Sunshine Act would be improperly disclosed.

Dated: August 8, 2001.
Susanne Bolton,
Committee Management Officer.

[FR Doc. 01-20268 Filed 8-10-01; 8:45 am]

BILLING CODE 7555-01-M